DEPARTMENT OF INTERIOR

Bureau of Land Management

[UT-070-1310-EJ]

Notice of Availability of the Draft Environmental Impact Statement for the West Tavaputs Plateau Natural Gas Full Field Development Plan, Carbon and Duchesne Counties, Utah

AGENCY: Bureau of Land Management, Interior.

ACTION: Notice of availability.

SUMMARY: This notice announces the availability of the Draft Environmental Impact Statement (DEIS) for the West Tavaputs Plateau Natural Gas Full Field Development Plan prepared pursuant to the National Environmental Policy Act of 1969 (NEPA). The DEIS evaluates the impacts of development of natural gas resources on approximately 137,700 acres of public, state, and private lands on the West Tavaputs Plateau in Carbon and Duchesne Counties, Utah. This NEPA analysis will provide a basis for the Bureau of Land Management (BLM) to amend the applicable land use plan per 43 CFR 1610 if necessary.

DATES: The 90-day public review and comment period of the DEIS will commence on the date the Environmental Protection Agency publishes its notice of availability in the Federal Register. Comments must be submitted to the Price Field Office during this period to assure their consideration. Public open house meetings will be held in Price, Roosevelt, and in the Salt Lake City area to assist the public in its review of the DEIS and to accept written comments. Notice of these meetings will be publicized through various media, including the Utah BLM Environmental Notification Bulletin Board, at least 15 days prior to the meetings.

ADDRESSES: Address written comments to: Bureau of Land Management, Price Field Office, 125 South 600 West, Price, Utah 84501, Attn: West Tavaputs Plateau Natural Gas Full Field Development Plan DEIS, or submit them electronically at http://www.blm.gov/ut/st/en/fo/price/energy/oil_gas/. Comments and information submitted on the DEIS, including names, e-mail addresses, and street addresses of respondents, will be available for public review and disclosure at the above address. All comment submittals must include the commenter's name and street address. Before including your address, phone number, e-mail address, or other personal identifying information in your comment, you should be aware that your entire comment—including your personal identifying information—may be made publicly available at any time. While you can ask us in your comment to withhold your personal identifying information from public review, we cannot guarantee that we will be able to do so.

FOR FURTHER INROMATION CONTACT: Brad Higdon, Environmental Coordinator, Price Field Office at (435) 636-3613. The West Tavaputs Plateau Natural Gas Full Field Development Plan DEIS is available online at http://www.blm.gov/ut/st/en/fo/price/energy/oil_gas/ or at the Price Field Office.

SUPPLEMENTARY INFORMATION: The DEIS evaluates a proposal by Bill Barrett Corporation and other operators to develop up to 807 natural gas wells on approximately 538 well pads within the 137,700 acre project area. The development plan proposal also includes a network of access roads, production facilities, and other operational infrastructure.

To address potential effects on the multiple resources which make up the affected environment, the BLM, in coordination with its cooperating agencies, has developed five alternatives in the DEIS. The alternatives include a No Action Alternative, the Proposed Action, a Transportation Impact Reduction Alternative, a Conservation Alternative, and an Agency Preferred Alternative, which includes components from each of the former alternatives. The alternatives incorporate best management practices for oil and gas development and other measures necessary to adequately address impacts to transportation, public safety, cultural resources, recreational opportunities, Wilderness Study Areas (WSA), non-WSA lands with wilderness characteristics, areas proposed for designation as Areas of Critical Environmental Concern, wildlife, Threatened and Endangered Species, visual resources, air quality, and other relevant issues.

If components of the Proposed Action conflict with the Price River Management Framework Plan, the BLM must consider whether or not to amend the plan as part of its decision on full field development. A plan amendment would be necessary if the BLM, as part of its decision, approves an action that does not conform to the plan. Therefore, the DEIS discloses which full field development activities would not be in conformance with the plan and identifies which land use plan decisions would be amended.

Selma Sierra,
Utah State Director.

[FR Doc. E8-1760 Filed 1-31-08; 8:45 am]

BILLING CODE 1310-EJ-P